DEPARTMENT OF VETERANS AFFAIRS

[OMB Control No. 2900-0521]

Agency Information Collection Activity: Certification of Loan Disbursement, Verification of Deposit and Verification of Employment

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. VA Forms 26-1820, 26-8497 and 26-8497a are used by lenders to obtain specific information concerning a veteran's credit history in order to properly underwrite the veteran's loan. The data collected on the forms is used to ensure that applications for VA-guaranteed loans are underwritten in a reasonable and prudent manner.

DATES: Written comments and recommendations on the proposed collection of information should be received on or before September 19, 2022.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0521” in any correspondence. During the comment period, comments may be viewed online through FDMS.

FOR FURTHER INFORMATION CONTACT: Maribel Aponte, VA PRA Clearance Officer, Office of Enterprise and Integration, Data Governance Analytics, Department of Veterans Affairs. Please refer to “OMB Control No. 2900-0521” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Certification of Loan Disbursement, Verification of Deposit and Verification of Employment (VA Form 26-1820, VA Form 26-8497, VA Form 26-8497a).

OMB Control Number: 2900-0521.

Type of Review: Revision of a currently approved collection.

Abstract: VA Form 26-1820 is used for loans closed on the prior approval and automatic basis. It is used by lenders closing VA loans under 38 U.S.C. 3710 and thereby complies with the provisions of 38 U.S.C. 3702(c) which requires lenders to report to the Secretary on loans guaranteed or insured.

In this information collection request, VA has revised the VA Form 26-1820 to include additional fields and certifications. The fields added are already collected routinely by the lender and do not add an undue burden to the lender. In addition, certifications that are to be provided to the Veteran were added that were included in OMB Control #2900-0144.

Affected Public: Individuals or households.

Estimated Annual Burden: 267,167 hours.

Estimated Average Burden per Respondent: 20 minutes.

Frequency of Response: One-time.

Estimated Number of Respondents: 804,000.

By direction of the Secretary.
Dorothy Glasgow,
VA PRA Clearance Officer, (Alt) Office of Enterprise and Integration/Data Governance Analytics, Department of Veterans Affairs.

[FR Doc. 2022-15477 Filed 7-19-22; 8:45 am]

BILLING CODE 8320-01-P